DEPARTMENT OF LABOR

Office of the Secretary

Submission for OMB Review: Comment Request

February 11, 2008.

The Department of Labor (DOL) gives notice that it has submitted the information collection request (ICR) described below to the Office of Management and Budget (OMB) for review and clearance in accordance with the Paperwork Reduction Act of 1995. A copy of this ICR, with applicable supporting documentation, including, among other things, a description of the likely respondents, proposed frequency of response, and estimated total burden may be obtained from the RegInfo.gov Web site at: http://www.reginfo.gov/public/do/PRAMain or by contacting Darrin King on 202-693-4129 (this is not a toll-free number) and e-mail king.darrin@dol.gov.

Interested parties are encouraged to send written comments on or before March 17, 2008 to the Office of Information and Regulatory Affairs, Attn: Katherine Astrich, Desk Officer for the Veterans' Employment Training Service, Office of Management and Budget, 725 17th Street, NW., Washington, DC 20503, e-mail OIRA_submission@omb.eop.gov. In order to ensure the appropriate consideration, comments should reference the OMB Control Number (see below).

The OMB is particularly interested in comments which:

(1) Evaluate whether the proposed collection of information is necessary for the proper performance of the functions of the agency, including whether the information will have practical utility;

(2) Evaluate the accuracy of the agency estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Agency: Veterans' Employment and Training Service.

Type of Review: Revision of currently approved collection.

Title: Federal Contractor Veterans' Report VETS-100/VETS-100A.

OMB Control Number: 1293-0005.

Agency Form Numbers: VETS-100 and VETS-100A.

Affected Public: Private Sector: Business or other for-profit.

Estimated Number of Respondents: 20,000.

Estimated Annual Burden Hours: 156,200.

Estimated Annual Cost Burden: $0.

Description: The Vietnam Era Veterans' Readjustment Assistance Act of 1974 (“VEVRAA”), 38 U.S.C. 4212(d), requires Federal contractors and subcontractors subject to the Act's affirmative action provisions in 38 U.S.C. 4212(a) to track and report annually to the Secretary of Labor the number of employees in their workforces, by job category and hiring location, who belong to the specified categories of covered veterans. The regulations set forth in 41 CFR part 61-250 currently require contractors to use the Federal Contractor Veterans' Employment Report VETS-100 (“VETS-100 Report”) form for reporting information on the number of covered veterans in their workforces. The part 61-250 regulations and the VETS-100 Report apply to contractors with contracts that were entered into before December 1, 2003.

The Jobs for Veterans Act (JVA) (Pub. L. 107-288), which was enacted in 2002, amended VEVRAA by making two changes to the reporting requirements applicable to contracts entered into on or after December 1, 2003. The JVA amendments: (1) Increased from $25,000 to $100,000, the dollar amount of the contract that subjects a Federal contractor to the requirement to report on veterans' employment; and (2) changed the categories of covered veterans under VEVRAA, and thus the categories of veterans that contractors are required to track and report on annually.

VETS published a Notice of Proposed Rulemaking (NPRM) published on August 8, 2006, (71 FR 44945), to implement the changes made by JVA to the VEVRAA reporting requirements. The NPRM proposed to adopt a new set of regulations that would be codified in a new 41 CFR part 61-300. In addition, the NPRM proposed to adopt a new form for reporting the information on veterans' employment required by the JVA amendments and name it the Federal Contractor Veterans' Employment Report VETS-100A. The part 60-300 regulations and the VETS-100A Report will apply to contractors with contracts that were entered into or modified on or after December 1, 2003. The information collected is to be used by the Department of Labor for compliance monitoring. For additional information, see related notice published on October 2, 2007 at 72 FR 56103.

Darrin A. King,
Acting Departmental Clearance Officer.

[FR Doc. E8-2870 Filed 2-14-08; 8:45 am]

BILLING CODE 4510-79-P